DEPARTMENT OF DEFENSE

Office of the Secretary

[Docket ID DoD-2022-OS-0018]

Proposed Collection; Comment Request

AGENCY: Office of the Under Secretary of Defense for Acquisition and Sustainment (USD(A&S)), Department of Defense (DoD).

ACTION: 60-Day information collection notice.

SUMMARY: In compliance with the Paperwork Reduction Act of 1995, the Office of Local Defense Community Cooperation announces a proposed public information collection and seeks public comment on the provisions thereof. Comments are invited on: Whether the proposed collection of information is necessary for the proper performance of the functions of the agency, including whether the information shall have practical utility; the accuracy of the agency's estimate of the burden of the proposed information collection; ways to enhance the quality, utility, and clarity of the information to be collected; and ways to minimize the burden of the information collection on respondents, including through the use of automated collection techniques or other forms of information technology.

DATES: Consideration will be given to all comments received by April 12, 2022.

ADDRESSES: You may submit comments, identified by docket number and title, by any of the following methods:

Federal eRulemaking Portal: http://www.regulations.gov. Follow the instructions for submitting comments.

Mail: DoD cannot receive written comments at this time due to the COVID-19 pandemic. Comments should be sent electronically to the docket listed above.

Instructions: All submissions received must include the agency name, docket number and title for this Federal Register document. The general policy for comments and other submissions from members of the public is to make these submissions available for public viewing on the internet at http://www.regulations.gov as they are received without change, including any personal identifiers or contact information.

FOR FURTHER INFORMATION CONTACT: To request more information on this proposed information collection or to obtain a copy of the proposal and associated collection instruments, please write to Office of Local Defense Community Cooperation, 2231 Crystal Drive, Arlington, VA 22202, ATTN: Ms. Michelle Volkema, or call 703-697-2176.

SUPPLEMENTARY INFORMATION: Title; Associated Form; and OMB Number: Office of Local Defense Community Cooperation Economic Adjustment Data System; OMB Control Number 0704-0625.

Needs and Uses: The Office of Local Defense Community Cooperation (OLDCC), in coordination with other Federal Agencies, delivers a program of technical and financial assistance to enable states and communities to plan and carry out civilian responses to workforce, business, and community needs arising from Defense actions; cooperate with military installations and leverage public and private capabilities to deliver public infrastructure and services to enhance the military mission and achieve facility and infrastructure savings; and increase military, civilian, and industrial readiness and resiliency, and support military families. The Economic Adjustment Data System supports this mission by providing a platform for authorized grant applicants to submit their application packages, and for grant awardees to submit quarterly or semi-annual performance reports. Respondents will be States, United States Territories, counties, municipalities, other political subdivisions of a state, special purpose units of a state or local government, other instrumentalities of a state or local government, and tribal nations supporting a military installation or the defense industrial base.

Affected Public: State, Local, or Tribal Government; Business or other for-profit; Not-for-profit Institutions.

Annual Burden Hours: 620.

Number of Respondents: 62.

Responses per Respondent: 6.

Annual Responses: 372.

Average Burden per Response: 100 minutes.

Frequency: As required.

Dated: February 7, 2022.
Aaron T. Siegel,
Alternate OSD Federal Register Liaison Officer, Department of Defense.

[FR Doc. 2022-03005 Filed 2-10-22; 8:45 am]

BILLING CODE 5001-06-P